DEPARTMENT OF THE INTERIOR

National Park Service

Record of Decision on the Final Environmental Impact Statement, Personal Watercraft Rule-Making, Glen Canyon National Recreation Area, Arizona and Utah

AGENCY: National Park Service (NPS), Department of the Interior.

ACTION: Notice of availability of the Record of Decision on the Final Environmental Impact Statement (FEIS), Personal Watercraft (PWC) Rule-Making, Glen Canyon National Recreation Area.

SUMMARY: On June 27, 2003, the Director, Intermountain Region, National Park Service, approved the Record of Decision on the Final Environmental Impact Statement, Personal Watercraft Rule-making for Glen Canyon National Recreation Area. As soon as practical the NPS will begin to implement the modified preferred alternative (Alternative B) contained in the FEIS issued May 23, 2003. Alternative B will allow PWC use in the recreation area under a special regulation with additional management restrictions. The following course of action will occur under the modified preferred alternative: PWC use will be prohibited in portions of the Colorado, Escalante, Dirty Devil, and San Juan Rivers to increase protection of environmental values and reduce visitor conflict; speed restrictions will be imposed on PWC on the Escalante River between Cow Canyon and the confluence of Coyote Creek to further reduce visitor conflict and improve visitor experience; after December 31, 2012, no one may operate a personal watercraft that does not meet the 2006 emission standards set by the EPA for the manufacturing of gasoline marine engines; educational programs and materials will be enhanced to provide more information to visitors on personal watercraft use and safety as well as recreation area resources; development of a monitoring program to evaluate the effects of PWC use on recreation area resources; and a comprehensive lake management plan will be developed that will consider the management of all lake uses. This alternative was identified as the environmentally preferred alternative in the FEIS. It was also determined to best accomplish the statutory mission of the NPS to provide long-term protection to the NPS units' resource and significance, while allowing for a spectrum of recreational uses. It was determined that implementation of the modified preferred alternative will not constitute an impairment of park resources and values. This course of action and two other alternatives were analyzed in the Draft and Final Environmental Impact Statements. The full range of foreseeable environmental consequences was assessed, and appropriate mitigating measures identified.

The full Record of Decision includes a statement of the decision made; synopsis of the alternatives considered, a description of the environmentally preferable alternative; the decision rationale used in selecting the alternative; a finding of no impairment of park resources and values; a description of mitigation measures and monitoring plans that will be implemented for the selected alternative; a statement that addresses how all practical means to avoid or minimize environmental harm from the selected alternative have been adopted; and a description of public involvement in the decision-making process.

Basis for the Decision

In reaching its decision to select the modified preferred alternative, the NPS considered the purposes for which Glen Canyon National Recreation Area was established, and other laws and policies that apply to federal lands, including the Organic Act, National Environmental Policy Act, and the NPS Management Policies 2001. The NPS also carefully considered public and agency comments received during the planning process.

FOR FURTHER INFORMATION CONTACT: Brian Wright, Glen Canyon National Recreation Area, (928) 608-6339.

Dated: June 27, 2003.
Michael D. Snyder,
Deputy Director, Intermountain Region, National Park Service.

[FR Doc. 03-18702 Filed 7-22-03; 8:45 am]

BILLING CODE 4310-70-P